OFFICE OF THE UNITED STATES TRADE REPRESENTATIVE

Mutual Recognition Agreement on Marine Equipment Between the United States and the EEA EFTA States (Norway, Iceland and Liechtenstein)

AGENCY: Office of the United States Trade Representative.

ACTION: Notice and request for comments.

SUMMARY: The United States is considering a proposal to negotiate a mutual recognition agreement (MRA) on marine equipment with European Free Trade Association (EFTA) countries that are part of the European Economic Area (EEA)—i.e., Norway, Iceland, and Liechtenstein. Such an agreement would parallel the provisions of the Marine Equipment MRA signed by the United States and European Community (EC) in 2004. The Office of the United States Trade Representative (USTR) seeks public comment on the desirability of negotiating a mutual recognition agreement in this sector with the EEA EFTA States

DATES: Comments should be submitted no later than Friday, July 16, 2004.

ADDRESSES: Submissions by electronic mail should be sent to: FR0429@ustr.gov. Submissions by fax should be sent to: Gloria Blue, Executive Secretary, Trade Policy Staff Committee (TPSC), Office of the U.S. Trade Representative at (202) 395-6143.

FOR FURTHER INFORMATION CONTACT: For procedural questions concerning public comments, contact Gloria Blue, Executive Secretary, Trade Policy Staff Committee, Office of the U.S. Trade Representative, 1724 F Street, NW., Washington, DC 20508, tel: (202) 395-3475. Substantive questions should be addressed to Jim Sanford, Deputy Assistant USTR for European Affairs at (202) 395-3320; or Jason Buntin, Director for EFTA Affairs at (202) 395-4620.

SUPPLEMENTARY INFORMATION: On February 27, 2004, the United States and European Community (EC) signed the US-EC Marine Equipment MRA. This agreement is to enter into force on July 1, 2004. Under the terms of the US-EC Marine Equipment MRA, designated products which comply with U.S. requirements will be accepted for sale in the European Union (EU) without any additional testing. The MRA will permit U.S. rigid life rafts, for example, determined by the U.S. Coast Guard to conform to U.S. regulations to be sold in the EU marketplace without any additional tests. Likewise, European rigid life rafts that are determined by European authorities to meet EU requirements can be sold in the United States without additional testing. The agreement fully preserves the U.S. Coast Guard's authority to determine the level of safety protection it considers appropriate, and in no way lowers current U.S. marine safety requirements. The text of the US-EC Marine Equipment MRA, including the current product scope, is available on USTR's Web site at: http://www.ustr.gov/regions/eu-med/westeur/2004-02-27-agreement-marine.pdf.

The EEA EFTA States (i.e., Norway, Iceland, and Liechtenstein) formally have requested that the United States negotiate a mutual recognition agreement (MRA) that would parallel the agreement concluded between the United States and the EC.

The Agreement on the European Economic Area (EEA) established a single market ensuring free circulation of goods, persons, capital and services among the EU Member States and the three EEA EFTA States. Norway, Iceland, and Liechtenstein, are integrated into the European Community Single Market and thereby apply the internal market legislation (acquis communautaire). This ensures that the EEA EFTA States and their economic operators are subject to the same rights and obligations as their counterparts in the European Community, and that a product placed on the market in accordance with the EU technical requirements freely circulates within the EEA.

An agreement between the United States and the EEA EFTA States would ensure U.S. producers of designated marine equipment direct market access to the EFTA part of the Community's Single Market. In effect, an MRA with the EEA EFTA States would extend the benefits of the US-EC marine equipment MRA to the markets of Norway, Iceland, and Liechtenstein.

In the United States, the U.S. Coast Guard administers conformity assessment requirements for marine equipment used on merchant ships, which includes lifesaving equipment, fire protection systems, and navigational equipment. The US-EC Marine Equipment MRA product scope is based on a detailed product-by-product determination of the equivalency of U.S. and EU marine equipment requirements. Only products facing identical requirements in each market are included in the initial product scope. The initial MRA product scope includes 43 products in three main categories: life saving equipment (e.g., distress signals, rigid life rafts); fire protection equipment (e.g., deck coverings, flame retardant materials); and navigational equipment (e.g., GPS equipment, echo-sounding equipment). The US-EC agreement also contemplates expanding the product scope in the future based on the results of international regulatory cooperation.

Public Comments: USTR invites written comments from interested persons on the desirability of negotiating an MRA with the EEA EFTA States which would parallel the US-EC Marine Equipment MRA. Comments are invited in particular on: (a) The benefits for pursuing an MRA in this sector; and (b) any specific issues regarding an MRA in this sector. All submissions must be in English and should conform to the information requirements of 15 CFR part 2003. Comments should state clearly the position taken and should describe the specific information (including data, if possible) supporting that position.

USTR strongly recommends that interested persons submit comments by electronic mail to the following e-mail address: FR0429@ustr.gov. Submissions by e-mail should include “US-EEA EFTA States Marine Equipment MRA” in the message subject line. Documents should be submitted in Word, WordPerfect, or text (.txt) files. Supporting documentation submitted as spreadsheets is acceptable in Quattro Pro or Excel format.

For any document containing business confidential information submitted electronically, the file name of the business confidential version should begin with the characters “BC-''; and the file name of the public version should begin with the character “P-”. The “P-” or “BC-” should be followed by the name of the submitted information. Persons who make submissions by e-mail should not provide separate cover letters; information that might appear in a cover letter should be included in the submission itself. To the extent possible, any attachments to the submission should be included in the same file as the submission itself.

Written comments or other information submitted in connection with this request, except information granted “business confidential” status pursuant to 15 CFR 2003.6, will be available for public inspection in the USTR Reading Room, Room 3, 1724 F Street, NW., Washington, DC 20508. An appointment to review the file may be made by calling (202) 395-6186. The Reading Room is open to the public from 10 a.m. to noon, and from 1 p.m. to 4 p.m. Monday through Friday.

Carmen Suro-Bredie,
Chair, Trade Policy Staff Committee.

[FR Doc. 04-13576 Filed 6-15-04; 8:45 am]

BILLING CODE 3190-W4-P